DEPARTMENT OF AGRICULTURE

Food Safety and Inspection Service

9 CFR Part 417

[Docket No. FSIS-2012-0007]

HACCP Plan Reassessment for Not-Ready-To-Eat Comminuted Poultry Products and Related Agency Verification Procedures

AGENCY: Food Safety and Inspection Service, USDA.

ACTION: Notice of extension of comment period.

SUMMARY: The Food Safety and Inspection Service (FSIS) is extending the comment period for the December 6, 2012, Federal Register document “HACCP Plan Reassessment for Not-Ready-to-Eat Comminuted Poultry Products and Related Agency Verification Procedures” until April 20, 2013. FSIS will also provide an additional 45 days for establishments that produce not-ready-to-eat (NRTE) comminuted chicken or turkey products to reassess their Hazard Analysis and Critical Control Points (HACCP) plans for those products. FSIS will postpone by 45 days the date inspection personnel will begin verifying that those establishments have reassessed their HACCP plans. In addition, starting approximately on April 20, 2013, the Agency intends to begin obtaining samples to determine the prevalence of Salmonella in NRTE comminuted poultry product announced in the document. The Agency is taking these actions in response to a request made by a coalition of trade associations.

DATES: The comment period for the document published December 6, 2012, at 77 FR 72686, is extended. Comments are due by April 20, 2013.

ADDRESSES: FSIS invites interested persons to submit comments on this document. Comments may be submitted by either of the following methods:

Federal eRulemaking Portal: This Web site provides the ability to type short comments directly into the comment field on this Web page or attach a file for lengthier comments. Go to http://www.regulations.gov/. Follow the on-line instructions at that site for submitting comments.

Mail, including CD-ROMs: Send to Docket Clerk, U.S. Department of Agriculture, Food Safety and Inspection Service, Patriots Plaza 3, 1400 Independence Avenue SW., Mailstop 3782, Room 8-163A, Washington, DC 20250-3700.

Hand- or courier-delivered submittals: Deliver to Patriots Plaza 3, 355 E. Street SW., Room 8-163A, Washington, DC 20250-3700.

Instructions: All items submitted by mail or electronic mail must include the Agency name and docket number FSIS-2012-0007. Comments received in response to this docket will be made available for public inspection and posted without change, including any personal information, to http://www.regulations.gov.

Docket: For access to background documents or to comments received, go to the FSIS Docket Room at Patriots Plaza 3, 355 E. Street SW., Room 8-164, Washington, DC 20250-3700 between 8:00 a.m. and 4:30 p.m., Monday through Friday.

FOR FURTHER INFORMATION CONTACT: Rachel Edelstein, Assistant Administrator, Office of Policy and Program Development, telephone: (202) 205-0495, or by fax: (202) 720-2025.

SUPPLEMENTARY INFORMATION:

On December 6, 2012, FSIS published a document in the Federal Register to inform establishments producing NRTE ground or otherwise comminuted chicken and turkey products that they must reassess their HACCP plans for these products to take into account several recent Salmonella outbreaks associated with consumption of comminuted NRTE turkey products (77 FR 72686). In the document, FSIS describes how it will determine whether the association of NRTE meat or poultry product with an illness outbreak would make subsequently-produced like product adulterated. The Agency also announced the expansion of its Salmonella verification sampling program to include all forms of non-breaded, non-battered comminuted NRTE poultry product not destined for further processing into ready-to-eat products. In addition, the document announces that the Agency will begin sampling to determine the prevalence of Salmonella in NRTE comminuted poultry and will use the results from this sampling to develop performance standards for these products. FSIS gave the public until March 6, 2013, to submit comments on the document.

In a letter addressed to FSIS Administrator Alfred V. Almanza, dated January 18, 2013, a coalition of trade associations stated that additional time was needed to formulate meaningful comments.

FSIS will extend the comment period by an additional 45 days; the comment period will now end on April 20, 2013. FSIS will also provide an additional 45 days for establishments that produce NRTE comminuted chicken or turkey products to reassess their HACCP plans for those products. Recognize, however, that the December 6, 2012, document was based on the Agency's determination that changes have occurred that could affect establishments' hazard analysis or affect their HACCP plan. As is explained in the Federal Register document, FSIS is requiring the reassessments because of the outbreaks and recalls that have occurred. Thus, the predicate for requiring reassessment under 9 CFR 417.4(a)(3) clearly exists. Therefore, establishments should use this additional time to conduct a reassessment of their HACCP plans for those products.

FSIS will postpone by 45 days—until April 20, 2013—the date inspection personnel will begin verifying that those establishments have reassessed their HACCP plans. In addition, starting approximately on April 20, 2013, the Agency intends to begin obtaining samples to determine the prevalence of Salmonella in NRTE comminuted poultry announced in the Federal Register document. FSIS expects to use the verification testing program as the means for obtaining samples and will use the results from this sampling to develop performance standards for these products.

FSIS will not further delay verifying that establishments have reassessed their HACCP plans, nor will the Agency delay its sampling of such comminuted products. However, FSIS will not make any changes to the performance standards for these products until FSIS has evaluated all comments received and has analyzed the results of the new testing.

USDA Nondiscrimination Statement

The U.S. Department of Agriculture (USDA) prohibits discrimination in all its programs and activities on the basis of race, color, national origin, gender, religion, age, disability, political beliefs, sexual orientation, and marital or family status. (Not all prohibited bases apply to all programs.)

Persons with disabilities who require alternative means for communication of program information (Braille, large print, audiotape, etc.) should contact USDA's Target Center at 202-720-2600 (voice and TTY).

To file a written complaint of discrimination, write USDA, Office of the Assistant Secretary for Civil Rights, 1400 Independence Avenue SW., Washington, DC 20250-9410 or call 202-720-5964 (voice and TTY). USDA is an equal opportunity provider and employer.

Additional Public Notification

FSIS will announce this document online through the FSIS Web page located at http://www.fsis.usda.gov/regulations_&_policies/Federal_Register_Notices/index.asp.

FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. In addition, FSIS offers an electronic mail subscription service which provides automatic and customized access to selected food safety news and information. This service is available at http://www.fsis.usda.gov/News_&_Events/Email_Subscription/. Options range from recalls to export information to regulations, directives, and notices. Customers can add or delete subscriptions themselves, and have the option to password protect their accounts.

Done at Washington, DC, on: February 11, 2013.
Alfred V. Almanza,
Administrator.

[FR Doc. 2013-05342 Filed 3-6-13; 8:45 am]

BILLING CODE 3410-DM-P